DEPARTMENT OF HOUSING AND URBAN DEVELOPMENT

[Docket No. FR-7075-N-02; OMB Control No. 2528-NEW]

60-Day Notice of Proposed Information Collection: Evaluation of Public Housing Agencies (PHA) Coronavirus Aid, Relief, and Economic Security (CARES) Act Waivers: PHA Interviews Data Collection

AGENCY: Office of Policy Development and Research, Department of Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: June 2, 2023.

ADDRESSES: Interested persons are invited to submit comments regarding this proposal. Written comments and recommendations for the proposed information collection can be sent within 60 days of publication of this notice to www.reginfo.gov/public/do/PRAMain. Find this particular information collection by selecting “Currently under 60-day Review—Open for Public Comments” or by using the search function. Interested persons are also invited to submit comments regarding this proposal by name and/or OMB Control Number and can be sent to: Anna Guido, Reports Management Officer, Department of Housing and Urban Development, 451 7th Street SW, Room 8210, Washington, DC 20410-5000; telephone 202-402-5535 (this is not a toll-free number) or email Anna Guido at Anna.P.Guido@hud.gov for a copy of the proposed forms or other available information.

FOR FURTHER INFORMATION CONTACT: Anna Guido, Reports Management Officer, Department of Housing and Urban Development, 451 7th Street SW, Washington, DC 20410; email Anna Guido at Anna.Guido@hud.gov, telephone 202-402-5535 (this is not a toll-free number). HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Evaluation of Public Housing Agencies (PHA) Coronavirus Aid, Relief, and Economic Security (CARES) Act Waivers: PHA Staff Interviews Data Collection.

OMB Approval Number: 2528-Pending.

Type of Request: New data collection.

Form Number: N/A.

Description of the need for the information and proposed use: The purpose of this proposed information collection is to conduct semi-structured interviews with PHA staff and stakeholders to understand why and how PHAs utilized waivers offered by the CARES Act, and how these waivers impacted PHA operations and assisted households.

In early 2020, Congress passed and the President signed the CARES Act. The landmark statute was a response to the COVID-19 pandemic and contained many provisions related to mitigating its worst effects. Included were provisions that gave the U.S. Department of Housing and Urban Development (HUD) statutory and regulatory waiver authority to help programs adapt and operate in the changing circumstances and to encourage the continuity of critical PHA operations in order to support PHA residents and tenants.

The Evaluation of Public Housing Agencies Coronavirus Aid, Relief, and Economic Security Act (CARES) Waivers is a mixed-method and multi-phase study to understand how PHAs implemented the CARES Act waivers and the utility of these waivers on general operations and assisted households. The insights from this study will also help inform future policy and program implications related to the waivers offered by the CARES Act.

2M will conduct semi-structured interviews with PHA stakeholders from a purposive sample of 50 PHAs. This includes interviews with three interview respondent groups (PHA leadership, PHA operations staff, and members of Resident Advisory Boards) from 45 PHAs that adopted waivers offered by the CARES Act (a total of 135 interviews with 135 respondents), and one group interview with PHA leadership and operations staff from five PHAs that did not adopt any waivers offered by the CARES Act (a total of 5 interviews with 10 respondents). Collectively, 2M plans to conduct a total of 140 interviews across 145 respondents. This data collection effort is expected to last five months.

This Federal Register Notice provides an opportunity to comment on the data collection instruments and associated materials to be administered to PHA staff and stakeholders.

Respondents:

At PHAs that adopted a waiver: PHA leadership, PHA operations staff (such as outreach staff or other relevant staff with knowledge about the impact of the CARES Act waivers), and members of Resident Advisory Boards.

At PHAs that did not adopt a waiver: PHA leadership and PHA operations staff.

Estimated Number of Respondents: 145 respondents.

Frequency of Response: Once.

Average Hours per Response: Completion of each semi-structured interview is expected to last an average of 1 hour.

Total Estimated Burden Hours: 145.0 hours.

¹ To estimate the hourly cost per respondent, the research team used the average hourly compensation (wages and benefits) for private workers in Service-Providing Industry according to Table 4 on page 8 in the Bureau of Labor Statistics' Employer Costs for Employee Compensation Survey from September 2022 (https://www.bls.gov/news.release/pdf/ecec.pdf). The hourly cost for PHA leadership was assumed to be those who are in Management, business, and financial occupations. The hourly cost for PHA staff was assumed to be those in Office and administrative support occupations. The hourly cost for members of Resident Advisory Boards was assumed to be those in Professional and related occupations.

² The average hourly cost per response for the combined interviews of PHA Leadership and Staff was calculated as the average for the hourly rate for PHA Leadership ($77.58) and PHA Staff ($29.89) [($77.58+$29.89)/2].

Annualized Burden Table ¹
Information collection | Number of respondents | Frequency of response | Responses per annum | Burden hour per response | Annual burden hours | Hourly cost per response | Cost
PHAs that Adopted a Waiver
Interview of PHA Leadership | 45 | 1 | 1 | 1.0 | 45.0 | $77.58 | $3,491.10
Interview of PHA Operations Staff | 45 | 1 | 1 | 1.0 | 45.0 | 29.89 | 1,345.05
Interview of Members of Resident Advisory Board | 45 | 1 | 1 | 1.0 | 45.0 | 59.78 | 2,690.10
PHAs that Did Not Adopt a Waiver
Interview of PHA Leadership and Staff (combined) | 10 | 1 | 1 | 1.0 | 10.0 | 53.74 ² | 537.40
Total | 145 |  |  |  | 145.0 |  | 8,063.65

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. 3507.

Todd M. Richardson,
General Deputy Assistant Secretary for Policy Development and Research.

[FR Doc. 2023-06756 Filed 3-31-23; 8:45 am]

BILLING CODE 4210-67-P